DEPARTMENT OF HEALTH AND HUMAN SERVICES

National Institutes of Health

Prospective Grant of Exclusive License

AGENCY: National Institutes of Health, Public Health Service, HHS.

ACTION: Notice of intent to grant exclusive license.

SUMMARY: Pursuant to 35 U.S.C. 209(c)(1) and 37 CFR 404.7(a)(1)(i), this will serve to notify the public that the National Institutes of Health, Department of Health and Human Services, is contemplating the grant of an exclusive patent license to intellectual property broker ICAP Ocean Tomo to promote the utilization by the public of the inventions described in the following U.S. patents: 7,122,624 entitled “PH2 Receptor Ligands” (HHS Ref. No. E-123-1999/0), and 7,087,736 entitled “Tyrosine DNA phosphodiesterases (TDP) and related polypeptides, nucleic acids, vectors, TDP producing host cells, antibodies and methods of use” (HHS Ref. No. E-281-1999/0). The patent rights in this invention have been assigned to the United States of America.

The prospective exclusive license territory may be worldwide and the field of use may be for the use of the Licensed Patent Rights in developing biopharmaceutical products.

DATES: Only written comments and/or applications for a license which are received by the NIH Office of Technology Transfer on or before March 31, 2011 will be considered.

ADDRESSES: Requests for copies of the patent application, inquiries, comments, and other materials relating to the contemplated exclusive license should be directed to: Mojdeh Bahar, J.D., Chief, Cancer Branch, Office of Technology Transfer, National Institutes of Health, 6011 Executive Boulevard, Suite 325, Rockville, MD 20852-3804; Telephone: (301) 435-2950; Facsimile: (301) 402-0220; E-mail: baharm@mail.nih.gov.

SUPPLEMENTARY INFORMATION: Prior to March 31, 2011, with NIH's explicit prior consent, ICAP will advertise the availability of the NIH technologies for licensing. Bidders may bid at anytime. Before any bid is accepted, NIH will review the commercial development plan (CDP) and assess the suitability of the bidder as a licensee.

The prospective exclusive license will be royalty bearing and will comply with the terms and conditions of 35 U.S.C. 209 and 37 CFR 404.7. The prospective exclusive license may be granted unless within fifteen(15) days from the date of this published notice, the NIH receives written evidence and argument that establishes that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: March 9, 2011.
Richard U. Rodriguez,
Director, Division of Technology Development and Transfer, Office of Technology Transfer, National Institutes of Health.

[FR Doc. 2011-6124 Filed 3-15-11; 8:45 am]

BILLING CODE 4140-01-P